DEPARTMENT OF AGRICULTURE

Forest Service

Notice of Modoc County RAC Meetings

SUMMARY: Pursuant to the authorities in the Federal Advisory Committees Act (Public Law 92-463) and under the Secure Rural Schools and Community Self-Determination Act of 2000 (Public Law 106-393), the Modoc National Forest's Modoc County Resource Advisory Committee will meet Monday, June 9, in Alturas, California. The meetings are open to the public.

SUPPLEMENTARY INFORMATION: The business meeting June 9, begins at 4 p.m., at the Modoc National Forest Office, Conference Room, 800 West 12th St., Alturas. Agenda topics will include approval of May 12 Minutes, consideration of new projects for funding in 2004, and discuss community outreach for projects for fiscal year 2004 that will improve the maintenance of existing infrastructure, implement stewardship objectives that enhance forest ecosystems, provide economic benefits and restore and improve health and water quality that meet the intent of Public Law 106-393. Time will also be set aside for public comments at the beginning of the meeting.

FOR FURTHER INFORMATION CONTACT: Forest Supervisor Stan Sylva, at (530) 233-8700; or Public Affairs Officer Nancy Gardner at (530) 233-8713.

Stanley G. Sylva,
Forest Supervisor.

[FR Doc. 03-12533 Filed 5-19-03; 8:45 am]

BILLING CODE 3410-11-P